DEPARTMENT OF TRANSPORTATION

National Highway Traffic Safety Administration

[Docket No. NHTSA-2002-13219; Notice 2]

Decision That Nonconforming 2002 Ferrari 360 Passenger Cars Manufactured Before September 1, 2002, Are Eligible for Importation

AGENCY: National Highway Traffic Safety Administration (NHTSA), DOT.

ACTION: Notice of decision by NHTSA that nonconforming 2002 Ferrari 360 Passenger Cars manufactured before September 1, 2002, are eligible for importation.

SUMMARY: This notice announces the decision by NHTSA that 2002 Ferrari 360 passenger cars manufactured before September 1, 2002, that were not originally manufactured to comply with all applicable Federal motor vehicle safety standards are eligible for importation into the United States because they are substantially similar to vehicles originally manufactured for importation into and sale in the United States and certified by their manufacturer as complying with the safety standards (the U.S. certified version of the 2002 Ferrari 360 passenger car manufactured before September 1, 2002), and they are capable of being readily altered to conform to the standards.

DATES: This decision is effective as of the date of its publication in the Federal Register.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

G&K Automotive Conversion, Inc. of Santa Ana, California (“G&K”) (Registered Importer 90-007) petitioned NHTSA to decide whether 2002 Ferrari 360 passenger cars manufactured before September 1, 2002, are eligible for importation into the United States. NHTSA published notice of the petition on September 10, 2002 (67 FR 57479), to afford an opportunity for public comment. The reader is referred to that notice for a thorough description of the petition.

One comment was received in response to the notice of petition, from a law firm representing Ferrari North America, Inc. (“FNA”), the U.S. representative of the vehicle's manufacturer. In this comment, FNA took issue with the extensiveness of the modification described in the petition as necessary to conform non-U.S. certified 2002 Ferrari 360 passenger cars manufactured before September 1, 2002, to certain of the Federal motor vehicle safety standards. FNA contended that if import eligibility were to be granted to those vehicles, that decision, insofar as it involved conformity with the Federal motor vehicle safety standards, would have to be made on the same basis as the decision to grant import eligibility to the non-U.S. certified 2001 Ferrari 360 that was published on April 10, 2002, at 67 FR 17483 (Docket No. NHTSA-2001-9628).

FNA also noted that G&K had stated in the petition that it would modify non-U.S. certified Ferrari 360 passenger cars manufactured before September 1, 2002, to the Bumper Standard at 49 CFR part 581, but stated in a subsequent letter to the agency that “[a]t this time we will be replacing the bumpers with U.S. bumpers instead of modifying them.” Expressing a lack of understanding of the phrase “at this time,” as used in G&K's letter, FNA asserted that the agency should require the replacement of the bumpers on all nonconforming 2002 Ferrari 360s with U.S.-model bumpers, and should not permit G&K or other importers to change their means for conforming the vehicles to the standard at some undisclosed future time.

After it was given an opportunity to respond to FNA's comments, G&K requested that the 2002 model be accorded import eligibility on the same terms as the 2001 model.

For the reader's convenience, those terms are set forth below with respect to each standard that was discussed in the eligibility decision for the 2001 Ferrari 360:

Standard No. 108 Lamps, Reflective Devices, and Associated Equipment: Modification of the tail lamp assembly wiring on the non-U.S. certified vehicle so that the tail lamps will operate in the same manner as those on the U.S. certified version.

Standard No 118 Power-Operated Window Systems: Installation of a relay to the power window system so that the power windows will not operate when the ignition switch is in the “off” position.

Standard No. 201 Occupant Protection in Interior Impacts: Replacement of the occupant compartment padding components with U.S.-model components as necessary to meet the upper interior component requirements of the standard.

Standard No. 208 Occupant Crash Protection: Replacement of seat belts and modification or replacement of the bumpers with U.S.-model components.

Standard No. 225 Child Restraint Anchorage Systems: Installation of U.S.-model top tether anchorages for child restraints on the rear frame of the non-U.S. certified vehicles.

Standard No. 301 Fuel System Integrity: (a) Replacement of the fuel/vapor separator, rollover valve, filler neck, vapor lines, evaporative (charcoal) canister, air pump, and associated hardware on non-U.S. certified versions of the vehicle to make them identical to those in the U.S. certified version; (b) modification of the U.S.-model filler neck so that it can be attached to the non-U.S.-model tank; (c) relocation of the charcoal canister, air pump, fuel filler neck, and rollover valve so that they are in essentially the same position as those components found on the U.S. certified vehicle.

In the eligibility decision for the 2001 Ferrari 360, the agency noted that these modifications would entail the replacement, with U.S.-model parts, of all non-U.S.-model parts except for the fuel tanks and bumpers that are necessary to bring non-U.S. certified Ferrari 360 vehicles into compliance with the applicable Federal Motor Vehicle Safety Standards and with the Bumper Standard in part 581.

NHTSA has considered FNA's comments and G&K's response. In view of FNA's assertion that non-U.S. certified 2002 Ferrari 360 passenger cars manufactured before September 1, 2002, should be judged on the same terms, and conformed in the same manner, as set forth in the agency's eligibility decision for the 2001 version of the vehicle, and G&K's request that the 2002 version be granted import eligibility on the same terms as the 2001 version, NHTSA has decided to grant the petition. The agency notes, however, that on account of the petitioner's stated intention to replace the bumpers on non-U.S. certified 2002 Ferrari 360 passenger cars manufactured before September 1, 2002, with U.S.-model components, those bumpers will have to be replaced, and not merely modified to conform to the Bumper Standard in 49 CFR part 581, as was allowed for the 2001 version of the vehicle.

Vehicle Eligibility Number for Subject Vehicles

The importer of a vehicle admissible under any final decision must indicate on the form HS-7 accompanying entry the appropriate vehicle eligibility number indicating that the vehicle is eligible for entry. VSP-402 is the vehicle eligibility number assigned to vehicles admissible under this notice of final decision.

Final Decision

Accordingly, on the basis of the foregoing, NHTSA hereby decides that 2002 Ferrari 360 Passenger Cars manufactured before September 1, 2002, that were not originally manufactured to comply with all applicable Federal motor vehicle safety standards are substantially similar to 2002 Ferrari 360 Passenger Cars manufactured before September 1, 2002, that were originally manufactured for importation into and sale in the United States and certified under 49 U.S.C. 30115, and are capable of being readily altered to conform to all applicable Federal motor vehicle safety standards.

Authority: 49 U.S.C. 30141(a)(1)(A) and (b)(1); 49 CFR 593.8; delegations of authority at 49 CFR 1.50 and 501.8.

Issued on: March 31, 2003.
Kenneth N. Weinstein,
Associate Administrator for Enforcement.

[FR Doc. 03-8135 Filed 4-2-03; 8:45 am]

BILLING CODE 4910-59-P